NATIONAL SCIENCE FOUNDATION

Agency Information Collection Activities: Comment Request

AGENCY: National Science Foundation.

ACTION: Submission for OMB review; comment request.

SUMMARY: The National Science Foundation (NSF) has submitted the following information collection requirements to OMB for review and clearance under the Paperwork Reduction Act of 1995.

DATES: Written comments on this notice must be received by May 12, 2017 to be assured of consideration. Comments received after that date will be considered to the extent practicable.

FOR FURTHER INFORMATION CONTACT: Comments should be addressed to: Office of Information and Regulatory Affairs of OMB, Attention: Desk Officer for National Science Foundation, 725 17th Street NW., Room 10235, Washington, DC 20503, and to Suzanne H. Plimpton, Reports Clearance Officer, National Science Foundation, 4201 Wilson Boulevard, Suite 295, Arlington, Virginia 22230 or send email to splimpto@nsf.gov. Copies of the submission(s) may be obtained by calling 703-292-7556. Individuals who use a telecommunications device for the deaf (TDD) may call the Federal Information Relay Service (FIRS) at 1-800-877-8339, which is accessible 24 hours a day, 7 days a week, 365 days a year (including federal holidays).

SUPPLEMENTARY INFORMATION: Comments are invited on (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

It is not permissible for NSF to conduct or sponsor a collection of information unless the collection of information displays a currently valid OMB control number and the agency informs potential persons who are to respond to the collection of information that such persons are not required to respond to the collection of information unless it displays a currently valid OMB control number.

Title of Collection: 2017 Survey of Doctorate Recipients.

OMB Approval Number: 3145-0020.

Expiration Date of Approval: August 31, 2018.

Summary of Collection. The Survey of Doctorate Recipients (SDR) has been conducted biennially since 1973. The 2017 SDR will consist of a sample of individuals less than 76 years of age who have earned a research doctoral degree in a science, engineering, or health field (SEH) from a U.S. institution. The purpose of this panel survey is to collect data that will be used to provide national estimates on the doctoral science and engineering workforce and changes in their employment, education, and demographic characteristics. The SDR is sponsored by the National Center for Science and Engineering Statistics (NCSES) within the NSF and by the National Institutes of Health. Data will be obtained by web, mail, and computer-assisted telephone interviews beginning in June 2017. Information from the SDR are used in assessing the quality and supply of the nation's SEH personnel resources for educational institutions, private industry, and professional organizations, as well as federal, state, and local governments. A public release file of collected data, designed to protect respondent confidentiality, will be made available to researchers, reporters, and other interested persons on the Internet.

The National Science Foundation Act of 1950, as subsequently amended, includes a statutory charge to “. . . provide a central clearinghouse for the collection, interpretation, and analysis of data on scientific and engineering resources, and to provide a source of information for policy formulation by other agencies of the Federal Government.” The SDR is designed to comply with these mandates by providing information on the supply and utilization of the nation's doctoral level scientists and engineers.

The survey data will be collected in conformance with the Confidential Information Protection and Statistical Efficiency Act of 2002 and the Federal Cybersecurity Enhancement Act of 2015. The individual's response to the survey is voluntary. NSF will ensure that all information collected will be kept strictly confidential and will be used only for statistical purposes.

Use of the Information: NSF uses the information from the SDR to prepare congressionally-mandated reports such as Women, Minorities and Persons with Disabilities in Science and Engineering and Science and Engineering Indicators. These two reports are made available, in full, on the Internet. However, summary Digests of facts and figures from these lengthy reports are made available both in print and on the Internet. Although NSF publishes statistics from the SDR in many reports, a set of statistical tables is produced online by NCSES in the biennial publication of SDR Data Tables.

Expected Respondents: The NCSES within NSF enhanced and expanded the sample for the 2015 cycle of the SDR to measure employment outcomes according to the eligible SEH fine fields of degree, as captured in the Survey of Earned Doctorates. Providing reliable estimates of the survey population by fine fields required refreshing the 2013 survey sample of approximately 47,000 in 2013 with a larger sample of 120,000 in 2015. With the expanded 2015 SDR sample, NCSES can produce reliable estimates of SEH fine fields by demographic characteristics, such as gender, ethnicity, and race. The 2017 SDR will maintain the 2015 expanded sample and add about 11,000 doctorates from the most recent 2014 and 2015 academic years for a total of 124,580 cases. NSF expects the overall response rate to be 75 percent.

Estimate of Burden: The amount of time to complete the questionnaire may vary depending on an individual's circumstances; however, on average it takes approximately 25 minutes. Thus, NSF estimates that the total annual burden for the 2017 SDR will be 38,932 hours (that is, 124,580 respondents at 75% response rate for 25 minutes).

Comment: On 19 September 2016, NSF published in the Federal Register (81 FR 2016-64206) a 60-day notice of its intent to request renewal of this information collection authority from OMB. In that notice, NSF solicited public comments for 60 days ending 18 November 2016. One public comment was received, in support of renewing the SDR and “releasing the survey data in a more timely and predictable manner.” NCSES acknowledged receipt and thanked the person for their comment. Relative to the first notice, there are two substantive changes: (1) The first notice stated, “The 2017 SDR will maintain the 2015 expanded sample along with a new sample of about 10,000 doctorates . . . and will not exceed 123,000 individuals in total with U.S. earned doctorates in SEH fields.” After additional analysis of the sample frame of the final eligible sample from the 2015 survey and the new doctoral recipients from 2014 and 2015 academic years, the 2017 sample size is revised to 124,580 cases effectively increasing the estimated respondent burden by 494 hours. (2) The survey launch date is now planned for June 2017 rather than February 2017 to allow for additional analysis and survey design planning.

Dated: April 4, 2017.
Suzanne H. Plimpton,
Reports Clearance Officer, National Science Foundation.

[FR Doc. 2017-07312 Filed 4-11-17; 8:45 am]

BILLING CODE 7555-01-P